DEPARTMENT OF THE INTERIOR

National Park Service

[NPS-SLBE-NPS0035739; PPMWSLBES0; PPMPSPD1Z.YM0000; OMB Control Number 1024-NEW]

Agency Information Collection Activities; Sleeping Bear Dunes National Lakeshore Visitor Use Management Study

AGENCY: National Park Service, Interior.

ACTION: Notice of information collection; request for comment.

SUMMARY: In accordance with the Paperwork Reduction Act of 1995 we, the National Park Service (NPS) are proposing a new information collection.

DATES: Interested persons are invited to submit comments on or before October 6, 2023.

ADDRESSES: Send your comments on this information collection request (ICR) by mail to the NPS Information Collection Clearance Officer (ADIR-ICCO), 13461 Sunrise Valley Drive, (MS-244) Reston, VA 20191 (mail); or phadrea_ponds@nps.gov (email). Please reference Office of Management and Budget (OMB) Control Number “1024-NEW (Sleeping Bear)” in the subject line of your comments.

FOR FURTHER INFORMATION CONTACT: To request additional information about this ICR, contact Thomas A. Ulrich, Deputy Superintendent, Sleeping Bear Dunes National Lakeshore at tom_ulrich@nps.gov (email) or at 231-326-4703 (telephone). Please reference OMB Control Number 1024-NEW (Sleeping Bear) in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service (NPS) is authorized by 54 U.S.C. 100701 to collect information that will improve the ability of the NPS to provide management, protection, and interpretation of, and research on, the resources of the System. Sleeping Bear Dunes National Lakeshore is a 71,199-acre NPS unit that preserves natural features for the benefit of the public.

The park's 2009 General Management Plan identified areas of importance and concern, including congestion in certain areas and the preservation of designated wilderness areas. Data from a 2012-2013 visitor survey suggested that social encounters would likely increase and negatively affect social and resource conditions. Since 2013, visitation to the park has increased by over 25%, and 32,550 acres of the park are now federally designated wilderness. Park managers are seeking data on current social and resource conditions to guide decisions to maintain and enhance visitor experiences.

This study will provide information on visitor use patterns and user characteristics during the busy summer season. The expected outcomes of this study are to:

• Provide updated information on visitor use patterns, motivations, and preferences across the park.

• Examine visitor attitudes toward management strategies and actions addressing visitor use.

• Provide information for use in future planning efforts (e.g., river use plans, management plan updates).

Results from this study will be used by park managers to target resources to inform strategic planning efforts and infrastructure improvements, update visitor services and amenities, and determine appropriate staffing levels.

Title of Collection: Sleeping Bear Dunes National Lakeshore Visitor Use Management Study.

OMB Control Number: 1024-NEW.

Form Number: None.

Type of Review: New.

Respondents/Affected Public: Individuals and Households.

Total Estimated Number of Annual Responses: 2,400.

Estimated Completion Time per Response: 13 minutes.

Total Estimated Number of Annual Burden Hours: 520 Hrs.

Respondent's Obligation: Voluntary.

Frequency of Collection: Annually.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2023-16799 Filed 8-4-23; 8:45 am]

BILLING CODE 4312-52-P